DEPARTMENT OF HEALTH AND HUMAN SERVICES

Public Health Service

National Toxicology Program; National Toxicology Program (NTP) Board of Scientific Counselors Meeting; Review of Nominations for Listing in the 10th Report on Carcinogens: Revised Preliminary Agenda and Review Order

This notice provides updated information and notes changes for the meeting of the NTP Board of Scientific Counselors' Report on Carcinogens (RoC) Subcommittee to be held on December 13, 14, & 15, 2000, at the Wyndham City Center, 1143 New Hampshire Ave., NW, Washington, DC 20037. On December 13, registration will begin at 9:00 am and the meeting will begin at 9:30 am. On December 14 & 15, the meeting will begin at 8:30 am. Pre-registration is not required; however, persons requesting time to make oral, public comments are asked to notify Dr. Mary S. Wolfe, Executive Secretary, prior to the meeting (contact information given below).

Background

This meeting covers the peer review of nominations for listing in the 10th RoC, and includes opportunity for public input. An earlier notice of this meeting, which included information about the nominations, review order, solicitation of oral and written comments, and how to secure background documents for the nominations, was published in the Federal Register (October 17, 2000, Volume 65, Number 201, Pages 61352-61354).

Changes in Review Order

While the agenda for this meeting remains preliminary, the order of the review as published in the previous notice has been altered as follows: the review of Chloramphenicol changes from six to five; Talc (Asbestiform and Non-Asbestiform) changes on the agenda from number seven to number six; and Estrogens, Steroidal changes from number five to number seven for review. Summary data and the revised, preliminary order for review of the nominations are listed in the table below:

Summary Data for Nominations to be Reviewed at the Meeting of the NTP Board of Scientific Counselors' Report on Carcinogens Subcommittee—December 13, 14, & 15, 2000
Nomination to be reviewed/cas number | Primary uses or exposures | To be reviewed for | Tentative review order
Broad Spectrum UV Radiation and UVA, UVB and UVC | Solar and artificial sources of ultraviolet radiation | Listing in the 10th Report | 1
Chloramphenicol/(56-75-7) | Used widely as an antibiotic since the 1950s | Listing in the 10th Report | 5
Estrogens, Sterodial | Estrogens are widely used in post-menopausal therapy and in oral contraceptives for women | Listing in the 10th Report | 7
Metallic Nickel & Nickel Alloys | Widely used in commercial applications for over 100 years | Listing in the 10th Report | 4
Methyleugenol/(93-15-2) | Flavoring agent used in jellies, baked goods, nonalcholoic beverages, chewing gum, candy, and ice cream. Also used as a fragrance for many perfumes, lotions, detergents and soaps | Listing in the 10th Report | 3
Talc/(14807-96-6) (Asbestiform and (Non-Asbestiform) | Asbestiform talc (i.e. talc containing Asbestiform fibers) occurs in various geological settings around the world. Occupational exposure occurs during mining, milling and processing. Non-asbestiform talc (i.e. talc not containing asbestiform fibers) occurs in various geological settings around the world. Occupational exposure occurs during mining, milling and processing. Exposure to general population occurs through use of products such as cosmetics | Listing in the 10th Report | 6
Trichloroethylene (TCE)/(79-01-6) | Trichloroethylene is widely used as a solvent with 80-90% used worldwide for degreasing metals | Upgrade to Known | 2
Wood Dust | It is estimated that at least two million people are routinely exposed occupationally to wood dust worldwide. Non-occupational exposure also occurs. The highest exposures have generally been reported in wood furniture and cabinet manufacturer, especially during machine sanding and similar operations | Listing in the 10th Report | 8

The RoC Subcommittee will provide separate recommendations for each of the agents, substances, mixtures or exposure circumstance listed in the table above. This includes separate recommendations for Broad Spectrum UV Radiation and for UVA, for UVB, and for UVC; for Metallic Nickel and for Nickel Alloys, and for Talc Asbestiform and for Talc Non-Asbestiform.

The agenda and a roster of Subcommittee members is available on the NTP web homepage at http://ntp-server.niehs.nih.gov/ and upon request from Dr. Wolfe (Dr. Mary S. Wolfe, P.O. Box 12233, A3-07, Research Triangle Park, NC 27709 (telephone 919/541-3971; FAX 919/541-0295; email wolfe@niehs.nih.gov). Summary minutes for the previous meeting are available on the NTP web homepage and upon request from Dr. Wolfe.

Dated: November 21, 2000.
Samuel H. Wilson,
Deputy Director, National Institute of Environmental Health Services.

[FR Doc. 00-30712 Filed 12-1-00; 8:45 am]

BILLING CODE 4140-01-M